DEPARTMENT OF COMMERCE

National Institute of Standards and Technology

[Docket No. 070320063-7064-01]

Advanced Technology Program; Extension of Due Date for Proposals

AGENCY: National Institute of Standards and Technology, United States Department of Commerce.

ACTION: Notice.

SUMMARY: Due to technical difficulties, NIST is extending the deadline for proposal submission for its Advanced Technology Program competition to 3 p.m. Eastern Time, Friday, May 25, 2007. NIST will accept only paper submissions during the extended time period.

DATES: Paper submissions must be received no later than 3 p.m. Eastern Time, Friday, May 25, 2007.

ADDRESSES: Paper submissions must be sent to National Institute of Standards and Technology, Advanced Technology Program, 100 Bureau Drive, Mail Stop 4701, Gaithersburg, MD 20899-4701.

FOR FURTHER INFORMATION CONTACT: Barbara Lambis at 301-975-4447 or by e-mail at Barbara.lambis@nist.gov.

SUPPLEMENTARY INFORMATION: On April 10, 2007, the National Institute of Standards and Technology (NIST) Advanced Technology Program (ATP) announced that it was soliciting proposals for a single fiscal year 2007 competition (72 FR 17838). The due date for submission of all proposals was 3 p.m. Eastern Time, Monday, May 21, 2007. Due to technical difficulties, NIST was unable to accept some proposals electronically during the day on Monday, May 21, 2007. Therefore, electronic proposals received between 3 p.m. and 11:59 p.m. Eastern Time on May 21, 2007 are deemed timely. Additionally, NIST is extending the deadline for any paper submissions. Paper submissions must be received by 3 p.m. Eastern Time, Friday, May 25, 2007. During the extended time period, NIST will accept only paper submissions. This paper submission deadline applies to any mode of paper proposal delivery, including hand-delivery, courier, and express mailing. ATP will not make any allowances for late submissions. All ATP competition requirements and information announced in the April 10, 2007 Federal Register notice apply to proposals submitted during the extended time period.

Proposers who attempted to submit electronic applications but were unsuccessful must resubmit a paper application. Please remember paper submission requires an original and fifteen (15) copies.

Dated: May 23, 2007.
James M. Turner,
Deputy Director.

[FR Doc. 07-2641 Filed 5-23-07; 12:38 pm]

BILLING CODE 3510-13-P